DEPARTMENT OF COMMERCE

National Oceanic and Atmospheric Administration

50 CFR Part 622

[Docket No. 160426363-7275-02]

RTID 0648-XA985

Coastal Migratory Pelagic Resources of the Gulf of Mexico and Atlantic Region; Reopening of Commercial Hook-and-Line for King Mackerel in the Gulf of Mexico Southern Zone

AGENCY: National Marine Fisheries Service (NMFS), National Oceanic and Atmospheric Administration (NOAA), Commerce.

ACTION: Temporary rule; reopening.

SUMMARY: NMFS is temporarily reopening the commercial hook-and-line component for king mackerel in the Gulf of Mexico (Gulf) southern zone. The most recent commercial landings data for king mackerel in the Gulf southern zone indicate the commercial hook-and-line quota for the 2020-2021 fishing year has not yet been reached. The commercial hook-and-line component will reopen for 5 days to allow harvest of remaining king mackerel commercial quota. NMFS intends this action to maximize the economic benefits to commercial fishermen while continuing to protect the Gulf king mackerel resource within the established commercial quota.

DATES: This temporary rule is effective from 12:01 a.m., local time, on April 4, 2021, through April 8, 2021.

FOR FURTHER INFORMATION CONTACT: Kelli O'Donnell, NMFS Southeast Regional Office, telephone: 727-824-5305, email: kelli.odonnell@noaa.gov.

SUPPLEMENTARY INFORMATION: The fishery for coastal migratory pelagic fish in the Gulf includes king mackerel and is managed under the Fishery Management Plan for the Coastal Migratory Pelagic Resources of the Gulf of Mexico and Atlantic Region (FMP). The Gulf of Mexico and South Atlantic Fishery Management Councils prepared the FMP. NMFS implements the FMP under the authority of the Magnuson-Stevens Fishery Conservation and Management Act (Magnuson-Stevens Act) through regulations at 50 CFR part 622. All weights for Gulf migratory group king mackerel (Gulf king mackerel) in this temporary rule apply as either round or gutted weight.

The commercial sector for Gulf king mackerel is divided into western, northern, and southern zones. The southern zone for Gulf king mackerel encompasses an area of the exclusive economic zone (EEZ) south of a line extending due west from the boundary of Lee and Collier Counties on the Florida west coast, and south of a line extending due east from the boundary of Monroe and Miami-Dade Counties on the Florida east coast, and includes the EEZ off Collier and Monroe Counties in south Florida (50 CFR 622.369(a)(1)(iii)).

Under 50 CFR 622.388(a)(1), NMFS is required to close the king mackerel commercial sector for the applicable zone or gear type during the remainder of the fishing year if landings reach, or are projected to reach, the applicable commercial quota by filing a notification to that effect with the Office of the Federal Register. The fishing year for the harvest of Gulf king mackerel with hook-and-line gear in the southern zone is July 1 through June 30. On February 22, 2021, NMFS projected that commercial fishermen would reach the commercial hook-and-line quota for Gulf king mackerel in the southern zone and published a temporary rule in the Federal Register to close the zone to commercial harvest using such gear through June 30, 2021 (86 FR 10183, February 19, 2021).

However, the most recent landings data for king mackerel in the Gulf southern zone indicate the commercial hook-and-line quota for the 2020-2021 fishing year has not yet been reached. The commercial hook-and-line quota for Gulf king mackerel in the southern zone is 575,400 lb (260,997 kg) for the 2020-2021 fishing year (50 CFR 622.384(b)(1)(iii)(A)). Approximately 50,562 lb (22,934 kg) of the commercial hook-and-line quota remain, and NMFS projects that this amount will be harvested in 5 days.

Therefore, in accordance with 50 CFR 622.8(c), NMFS reopens the commercial hook-and-line component for king mackerel in the Gulf southern zone for 5 days to allow the commercial quota to be caught. Following the 5-day reopening period, the hook-and-line component of the commercial sector for Gulf king mackerel in the southern zone is closed again from April 9, 2021, through the end of the fishing year on June 30, 2021. The commercial hook-and-line component for Gulf king mackerel in the southern zone reopens on July 1, 2021.

NMFS has also previously determined that the Gulf king mackerel commercial quota for vessels using run-around gillnet gear in the southern zone was reached on January 28, 2021, and therefore on that date, NMFS closed the southern zone to commercial king mackerel fishing using such gear (86 FR 7815, February 2, 2021). Accordingly, all commercial fishing for Gulf king mackerel in the southern zone is closed from April 9, 2021, through June 30, 2021. The commercial run-around gillnet component for Gulf king mackerel in the southern zone will reopen at 6 a.m. local time on January 18, 2022.

A person aboard a vessel that has a valid Federal commercial permit for king mackerel may continue to retain king mackerel under the recreational bag and possession limits specified in 50 CFR 622.382(a)(1)(ii) and (a)(2), as long as the recreational sector for Gulf king mackerel is open (50 CFR 622.384(e)(1)).

During the commercial closure, king mackerel caught with hook-and-line gear from the closed zone may not be purchased or sold, including those harvested under the recreational bag and possession limits. This prohibition does not apply to king mackerel caught with hook-and-line gear from the closed zone that were harvested, landed ashore, and sold prior to the closure and were held in cold storage by a dealer or processor (50 CFR 622.384(e)(2)).

Classification

NMFS issues this action pursuant to section 305(d) of the Magnuson-Stevens Act. This action is taken under 50 CFR 622.8(c), which was issued pursuant to section 304(b) of the Magnuson-Stevens Act, and is exempt from review under Executive Order 12866.

Pursuant to 5 U.S.C. 553(b)(B), there is good cause to waive prior notice and an opportunity for public comment on this action, as notice and comment is unnecessary and contrary to the public interest. Such procedures are unnecessary because the regulation at 50 CFR 622.8(c) has already has already been subject to notice and public comment, and all that remains is to notify the public that additional harvest is available under the established commercial quota, and therefore, the commercial hook-and-line component for Gulf king mackerel in the southern zone will reopen. Prior notice and opportunity for public comment on this action is contrary to the public interest because these fish are migratory and reopening quickly is necessary to provide fishermen the best opportunity to harvest the fish before they leave the area. NMFS expects reopening quickly to help achieve optimum yield by making additional king mackerel available to consumers and resulting in revenue increases to commercial fishermen.

For the aforementioned reasons, there is good cause under 5 U.S.C. 553(d)(3) to waive the 30-day delay in effectiveness of this action.

Authority: 16 U.S.C. 1801 et seq.

Dated: April 1, 2021.
Jennifer M. Wallace,
Acting Director, Office of Sustainable Fisheries, National Marine Fisheries Service.

[FR Doc. 2021-07094 Filed 4-1-21; 4:40 pm]

BILLING CODE 3510-22-P